DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: 2012 National Mental Health Services Survey (N-MHSS) (OMB No. 0930-0119)—Revision

The Substance Abuse and Mental Health Services Administration (SAMHSA), Center for Behavioral Health Statistics and Quality (CBHSQ), is requesting approval for a revision to the National Mental Health Services Survey (N-MHSS) (OMB No. 0930-0119), which expires on February 28, 2013. The N-MHSS provides national and state-level data on the number and characteristics of mental health treatment facilities in the United States.

An immediate need under N-MHSS in 2012 is to update the information about facilities on SAMHSA's online Mental Health Facility Locator (see: http://store.samhsa.gov/mhlocator), which was last updated with information from the 2010 N-MHSS. A full N-MHSS is anticipated within about two years, and a separate request for OMB approval will be submitted for that collection. However, until then, an abbreviated version of the N-MHSS will be conducted to collect only the information needed to update the Locator, such as the facility name and address, specific services offered, and special client groups served. The data on the Locator are becoming outdated and need an update method. Other fields in the full N-MHSS not needed for updating the Locator, such as client counts and client demographics, will not be collected in the Locator survey. In addition to the data collection for updating facilities on the Locator, a data collection in conjunction with adding new facilities to the Locator is being requested. Both activities will use the same abbreviated N-MHSS-Locator instrument.

This requested revision seeks to change the content of the currently approved full-scale N-MHSS survey instrument into an abbreviated survey instrument, henceforth referred to as the N-MHSS-Locator, to accommodate two related N-MHSS activities:

(1) Collection of information from the full N-MHSS universe of mental health treatment facilities during 2012, 2013, and 2014. This abbreviated subset of N-MHSS data will update and expand SAMHSA's existing online Mental Health Facility Locator (see: http://store.samhsa.gov/mhlocator), which was last updated with information from the 2010 N-MHSS; and

(2) Collection of information on newly identified facilities throughout the year, as they are identified, so that new facilities can quickly be added to the Locator.

The survey mode for both data collection activities will be Web with telephone follow-up.

The database resulting from the 2012 N-MHSS-Locator will be used to update SAMHSA's online Mental Health Facility Locator and to produce a 2012 compact disk (CD) directory of facilities, both for use by consumers and service providers. In addition, a data file derived from the survey will be used to produce an annual report providing state and national data on the number and types of treatment facilities and services. The annual report and a public-use data file to be released in conjunction with the report will be used by researchers, mental health professionals, State governments, the U.S. Congress, and the general public.

The following table summarizes the estimated response burden for the two survey activities:

Estimated Total Response Burden for the N-MHSS
Type of respondent | Number of respondents | Responses per respondent | Average hours per response | Total hour burden
Facilities in annual N-MHSS-Locator universe | 15,000 | 1 | .42 | 6,300
Newly identified facilities ¹ | 1,500 | 1 | .42 | 630
Total Facilities | 16,500 |  |  | 6,930
¹ Collection of information on newly identified facilities throughout the year, as they are identified, so that new facilities can quickly be added to the Locator.

Written comments and recommendations concerning the proposed information collection should be sent by June 4, 2012 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2012-10759 Filed 5-3-12; 8:45 am]

BILLING CODE 4162-20-P